DEPARTMENT OF COMMERCE

International Trade Administration

[A-533-867]

Welded Stainless Pressure Pipe From India: Final Results of Antidumping Duty Administrative Review; 2022-2023

AGENCY: Enforcement and Compliance, International Trade Administration, Department of Commerce.

SUMMARY: The U.S. Department of Commerce (Commerce) determines that Suncity Metals and Tubes Private Limited (Suncity Metals), the sole producer/exporter subject to this administrative review, made sales of welded stainless pressure pipe (WSPP) from India at less than normal value during the period of review (POR) November 1, 2022, through October 31, 2023.

DATES: Applicable September 11, 2025.

FOR FURTHER INFORMATION CONTACT: John Conniff, AD/CVD Operations, Office III, Enforcement and Compliance, International Trade Administration, U.S. Department of Commerce, 1401 Constitution Avenue NW, Washington, DC 20230; telephone: (202) 482-1009.

SUPPLEMENTARY INFORMATION:

Background

On December 13, 2024, Commerce published the Preliminary Results for this review in the Federal Register and invited interested parties to comment on those results.¹ On January 8, 2025, Suncity Metals responded to Commerce's third supplemental questionnaire, which requested information on Suncity Metal's name change from Suncity Sheets Pvt. Ltd. to Suncity Metals and Tubes Pvt. Ltd. India and other issues.² On January 29, 2025, Commerce notified parties of the final briefing schedule for interested parties to submit comments concerning the Preliminary Results and any factual information received since the issuance thereof.³ No interested party submitted comments or requested a hearing for this administrative review. On February 10, 2025, Suncity submitted its case brief and on February 18, 2025, the Felker Brother Corporation (the petitioner) submitted a rebuttal brief.⁴ On August 8, 2025, we issued a post-preliminary analysis and accompanying briefing schedule.⁵ We did not receive comments from any parties. On June 30, 2025, we extended the deadline for the final results until September 5, 2025.⁶ Commerce conducted this review in accordance with section 751(a)(1)(B) of the Tariff Act of 1930, as amended (the Act).

¹ See Welded Stainless Pressure Pipe from India: Preliminary Results and Partial Rescission of Antidumping Duty Administrative Review; 2022-2023, 89 FR 100954 (December 13, 2024) (Preliminary Results), and accompanying Preliminary Decision Memorandum.

² See Suncity Metal's Letter, “Response to Third Supplemental Questionnaire,” dated January 8, 2025.

³ See Memorandum, “Briefing Schedule,” dated January 29, 2025.

⁴ See Suncity Metal's Letter, “Case Brief,” dated February 10, 2025; see also Petitioner's Letter, “Rebuttal Brief,” dated February 18, 2025.

⁵ See Memorandum, “Post-Preliminary Analysis for the Administrative Review of Welded Stainless Pressure Pipe from India,” dated August 8, 2025; see also Memorandum, “Briefing Schedule for Post-Preliminary Analysis,” dated August 11, 2025.

⁶ See Memorandum, “Extension of Deadline for Final Results of Antidumping Duty Administrative Review,” dated June 30, 2025.

Final Successor-in-Interest Determination

Pursuant to section 751(b)(1) of the Act and 19 CFR 351.216(d), when Commerce receives information concerning, or a request from an interested party for a review of, an order which shows changed circumstances sufficient to warrant a review of such order after publishing notice of the review in the Federal Register, Commerce shall conduct a review of the determination based on those changed circumstances. While successor-in-interest determinations are often made in the context of distinct changed circumstance reviews (CCRs) to consider the applicability of cash deposit rates after there have been changes in the name or the structure of a respondent, such as a merger or spinoff (successor-in-interest, or successorship, determinations), Commerce has also made successor-in-interest determinations in the context of administrative reviews and investigations.⁷

⁷ See, e.g., Certain Frozen Warmwater Shrimp from the People's Republic of China: Final Results of Antidumping Duty Administrative Review and Final Determination of No Shipments; 2018-2019, 85 FR 83891 (December 23, 2020), and accompanying Issues and Decision Memorandum at Comment 3.

In this review, Suncity Metals, formerly known as Suncity Sheets Pvt. Ltd. (Suncity Sheets), made a legal name change and became the revised name of the legal entity and provided information necessary to evaluate the statements in support of the successorship claim within the context of Commerce's established criteria.⁸ We found that, based on the totality of the circumstances and in the absence of any contradictory information on the record, Suncity Metals is the successor-in-interest to Suncity Sheets, as the change in the company's name was not accompanied by significant changes to its management and operations, production facilities, supplier relationships, and/or customer base.⁹ Thus, we preliminarily concluded that Suncity Metals operates as essentially the same business entity as Suncity Sheets is the successor-in-interest and that Suncity Metals should receive the same antidumping duty (AD) cash deposit rate and customs number as its predecessor, with respect to subject merchandise.¹⁰

⁸ See Suncity Metals Letter, “Submission of Response to Third Supplemental Questionnaire,”dated January 8, 2025, at 3-10.

⁹ Id.

¹⁰ Id.

No party commented on this request, and Commerce received no subsequent information or argument to compel reconsideration thereof. Therefore, we find Suncity Metals to be the successor-in-interest to Suncity Sheets, and that Suncity Metals should receive the same AD cash deposit rate and customs number as its predecessor.

Scope of the Order ¹¹

¹¹ See Welded Stainless Pressure Pipe from India: Antidumping and Countervailing Duty Orders, 81 FR 81062 (November 17, 2016) (Order).

The merchandise subject to the Order is welded stainless pressure pipe from India. For a complete description of the scope, see the Issues and Decision Memorandum.¹²

¹² See Memorandum, “Issues and Decision Memorandum for the Final Results of Antidumping Duty Administrative Review: Welded Stainless Pressure Pipe from India; 2022-2023,” dated concurrently with, and hereby adopted by, this notice (Issues and Decision Memorandum).

Analysis of the Comments Received

All issues raised in the case and rebuttal briefs that were submitted by interested parties are addressed in the Issues and Decision Memorandum. A list of the issues which parties raised, and to which we respond in the Issues and Decision Memorandum, is attached in the appendix to this notice. The Issues and Decision Memorandum is a public document and is on file electronically via Enforcement and Compliance's Antidumping and Countervailing Duty Centralized Electronic System (ACCESS). ACCESS is available to registered users at https://access.trade.gov. In addition, the Issues and Decision Memorandum can be accessed directly at https://access.trade.gov/public/FRNoticesListLayout.aspx.

Changes Since the Preliminary Results

There have been changes since the Preliminary Results based on a subsequent supplemental questionnaire response and updated cost database, which are detailed in the final analysis memorandum.¹³ Additionally, as mentioned above, we find that Suncity Metals is the successor-in-interest to Suncity Sheets. Lastly, we have applied Commerce's price difference methodology consistent with the post-preliminary analysis.

¹³ For further discussion, see Memorandum, “Suncity Metals Final Analysis Memorandum,” dated concurrently with this notice.

Final Results of Review

Commerce determines that the following weighted-average dumping margin exists for the period November 1, 2022, through October 31, 2023:

Exporter/producer | Weighted-average dumping margin (percent)
Suncity Metals and Tubes Private Limited | 21.77

Disclosure

Commerce intends to disclose the calculations performed for these final results to interested parties in this review under administrative protective order (APO) within five days of the date of publication of this notice in the Federal Register, in accordance with 19 CFR 351.224(b).

Assessment Rate

Pursuant to section 751(a)(2)(C) of the Act, and 19 CFR 351.212(b)(1), Commerce will determine, and U.S. Customs and Border Protection (CBP) shall assess, antidumping duties on all appropriate entries covered by this review. Pursuant to 19 CFR 351.212(b)(1), for Suncity Metals, we calculated importer-specific antidumping duty assessment rates by aggregating the total amount of dumping calculated for the examined sales of each importer and dividing each of these amounts by the total entered value associated with those sales.¹⁴ Where either the respondent's weighted-average dumping margin is zero or de minimis within the meaning of 19 CFR 351.106(c)(1), or an importer specific assessment rate is zero or de minimis, we will instruct CBP to liquidate the appropriate entries without regard to antidumping duties.

¹⁴ As explained above, we determined that Suncity Metals is the successor-in-interest to Suncity Sheets Pvt. Ltd. Accordingly, we intend to issue assessment instructions covering entries produced and exported by Suncity Sheets Pvt. Ltd. during the POR at the rate established in these final results.

Commerce's “automatic assessment” will apply to entries of subject merchandise during the POR produced by Suncity Metals for which the company did not know that the merchandise it sold to an intermediary (e.g., a reseller, trading company, or exporter) was destined for the United States. In such instances, we will instruct CBP to liquidate such entries at the all-others rate if there is no rate for the intermediate company(ies) involved in the transaction.¹⁵

¹⁵ See Antidumping and Countervailing Duty Proceedings: Assessment of Antidumping Duties, 68 FR 23954 (May 6, 2023).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date of the final results of this administrative review, as provided by section 751(a)(2)(C) of the Act: (1) the cash deposit rates for the company identified above in the “Final Results of Review” will be equal to the company-specific weighted-average dumping margin established in the final results of this administrative review; (2) for merchandise exported by a company not covered in this administrative review but covered in a completed prior segment of the proceeding, the cash deposit rate will continue to be the company-specific rate published for the most recently completed segment of this proceeding; (3) if the exporter is not a firm covered in this review or completed prior segment of this proceeding but the producer is, the cash deposit rate will be the company-specific rate established for the most recently-completed segment of this proceeding for the producer of the subject merchandise; and (4) the cash deposit rate for all other producers or exporters will continue to be 8.35 percent, the rate established in the investigation of this proceeding.¹⁶ These cash deposit requirements, when imposed, shall remain in effect until further notice.

¹⁶ See Order, 81 FR at 81063.

Notification to Importers

This notice serves as a final reminder to importers of their responsibility under 19 CFR 351.402(f)(2) to file a certificate regarding the reimbursement of antidumping and/or countervailing duties prior to liquidation of the relevant entries during this POR. Failure to comply with this requirement could result in Commerce's presumption that reimbursement of antidumping and/or countervailing duties has occurred and the subsequent assessment of double antidumping duties, and/or an increase in the amount of antidumping duties by the amount of the countervailing duties.

Administrative Protective Order

This notice also serves as a final reminder to parties subject to an APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and the term of an APO is a sanctionable violation.

Notification to Interested Parties

We are issuing and publishing this notice in accordance with sections 751(a)(1) and 777(i)(1) of the Act, and 19 CFR 351.221(b)(5) and 19 CFR 351.213(h).

Dated: September 5, 2025.
Christopher Abbott,
Deputy Assistant Secretary for Policy and Negotiations, performing the non-exclusive functions and duties of the Assistant Secretary for Enforcement and Compliance.

Appendix

List of Topics Discussed in the Issues and Decision Memorandum

I. Summary

II. Background

III. Scope of the Order

IV. Changes Since the Preliminary Results

V. Discussion of the Issues

Comment 1: Whether Commerce Used an Incorrect Cost Database

Comment 2: Inclusion of Countervailing Duties, Freight Revenue, and Insurance Revenue in U.S. Price

Comment 3: Whether Suncity Metals is the Successor-in-Interest to Suncity Sheets

VI. Recommendation

[FR Doc. 2025-17464 Filed 9-10-25; 8:45 am]

BILLING CODE 3510-DS-P